DEPARTMENT OF ENERGY

Federal Energy Regulatory Commission

Notice of Effectiveness of Exempt Wholesale Generator Status

Bluebell Solar, LLC EG18-103-000

Casa Mesa Wind, LLC EG18-104-000

Titan Solar, LLC EG18-105-000

Big Sky North, LLC EG18-106-000

Cypress Creek Fund 11 Tenant, LLC EG18-107-000

Brantley Farm Solar, LLC EG18-108-000

Blue Summit Interconnection, LLC EG18-109-000

Minco IV & V Interconnection, LLC EG18-110-000

OCI Lamesa Solar II LLC EG18-111-000

Green Power Hilltopper Wind, LLC EG18-112-000

Enel Green Power Rattlesnake Creek Wind Project, LLC EG18-113-000

Enel Green Power Diamond Vista Wind Project, LLC EG18-114-000

Live Oak Wind Project, LLC EG18-116-000

DATE: October 11, 2018.

Take notice that during the month of September 2018, the status of the above-captioned entities as Exempt Wholesale Generators became effective by operation of the Commission's regulations. 18 CFR 366.7(a) (2018).

Dated: October 11, 2018.
Nathaniel J. Davis, Sr.,
Deputy Secretary.

[FR Doc. 2018-22626 Filed 10-16-18; 8:45 am]

BILLING CODE 6717-01-P